DEPARTMENT OF TRANSPORTATION

Federal Aviation Administration

14 CFR Part 39

[Docket No. FAA-2022-0676; Project Identifier AD-2022-00533-R; Amendment 39-22080; AD 2022-12-08]

RIN 2120-AA64

Airworthiness Directives; Robinson Helicopter Company Helicopters

AGENCY: Federal Aviation Administration (FAA), DOT.

ACTION: Final rule; request for comments.

SUMMARY: The FAA is adopting a new airworthiness directive (AD) for certain Robinson Helicopter Company Model R22 BETA, R44, and R44 II helicopters. This AD was prompted by reports of intermittent or abnormal operation of the engine revolutions per minute (RPM) governor (governor). This AD requires inspecting the engine RPM sensor wiring and installing a wiring kit. The FAA is issuing this AD to address the unsafe condition on these products.

DATES: This AD is effective June 29, 2022.

The Director of the Federal Register approved the incorporation by reference of certain publications listed in this AD as of June 29, 2022.

The FAA must receive comments on this AD by July 29, 2022.

ADDRESSES: You may send comments, using the procedures found in 14 CFR 11.43 and 11.45, by any of the following methods:

• Federal eRulemaking Portal: Go to https://www.regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For service information identified in this final rule, contact Robinson Helicopter Company, Technical Support Department, 2901 Airport Drive, Torrance, CA 90505; telephone (310) 539-0508; fax (310) 539-5198; email ts1@robinsonheli.com; or at https://robinsonheli.com. You may view this service information at the FAA, Office of the Regional Counsel, Southwest Region, 10101 Hillwood Pkwy., Room 6N-321, Fort Worth, TX 76177. For information on the availability of this material at the FAA, call (817) 222-5110. Service information that is incorporated by reference is also available at https://www.regulations.gov by searching for and locating Docket No. FAA-2022-0676.

Examining the AD Docket

You may examine the AD docket at https://www.regulations.gov by searching for and locating Docket No. FAA-2022-0676; or in person at Docket Operations between 9 a.m. and 5 p.m., Monday through Friday, except Federal holidays. The AD docket contains this final rule, any comments received, and other information. The street address for the Docket Operations is listed above.

FOR FURTHER INFORMATION CONTACT: Jeffrey Chang, Aerospace Engineer, Propulsion Section, Los Angeles ACO Branch, Compliance & Airworthiness Division, FAA, 3960 Paramount Blvd., Lakewood, CA 90712; telephone (562) 627-5263; email jeffrey.chang@faa.gov.

SUPPLEMENTARY INFORMATION:

Background

The FAA is adopting a new AD for certain serial-numbered Robinson Helicopter Company Model R22 BETA, R44, and R44 II helicopters. This AD was prompted by reports of intermittent or abnormal operation of the governor. In normal conditions, a properly functioning governor maintains engine speed within acceptable limits. Intermittent or abnormal operation of the governor may result in engine overspeed or underspeed conditions during flight. If the engine governor malfunctions, the pilot may assume manual throttle control by firmly gripping the throttle and overriding the governor's friction clutch, or by switching the governor off. In the event of low rotor RPM, an alarm sounds. This condition, if not addressed, could result in reduced control of the helicopter and subsequent emergency landing or loss of control of the helicopter. The FAA is issuing this AD to address the unsafe condition on these products.

FAA's Determination

The FAA is issuing this AD because the agency has determined the unsafe condition described previously is likely to exist or develop in other products of the same type designs.

Related Service Information Under 1 CFR Part 51

The FAA reviewed Robinson R22-series Governor & Engine RPM Sensor Connector Upgrade Kit Instructions, KI-288 Revision A, and Robinson R44-series Governor & Engine RPM Sensor Connector Upgrade Kit Instructions, KI-287 Revision A, each dated February 23, 2022. This service information specifies procedures to inspect the engine RPM sensor wiring for damage, repair that wiring, and modify the governor wiring connection to the airframe harness with different connectors for improved clearance and strain relief.

This service information is reasonably available because the interested parties have access to it through their normal course of business or by the means identified in ADDRESSES.

Other Related Service Information

The FAA reviewed Robinson Helicopter Company R22 Service Bulletin SB-119, and Robinson Helicopter Company R44 Service Bulletin SB-111, each dated February 23, 2022. This service information specifies inspecting the sensor wiring, installing a governor wiring kit, and accomplishing the starting engine and run-up checklist to verify proper governor operation.

AD Requirements

This AD requires inspecting the engine RPM sensor wiring for damage, and depending on the outcome, accomplishing repairs. This AD also requires modifying the governor wiring connection to the airframe harness by installing wiring kit KI-288 for Model R22 BETA helicopters and wiring kit KI-287 for Model R44 and R44 II helicopters.

Interim Action

The FAA considers this AD to be an interim action as the design approval holder continues to investigate the unsafe condition identified in this AD. If final action is later identified, the FAA might consider further rulemaking then.

Justification for Immediate Adoption and Determination of the Effective Date

Section 553(b)(3)(B) of the Administrative Procedure Act (APA) (5 U.S.C. 551 et seq.) authorizes agencies to dispense with notice and comment procedures for rules when the agency, for “good cause,” finds that those procedures are “impracticable, unnecessary, or contrary to the public interest.” Under this section, an agency, upon finding good cause, may issue a final rule without providing notice and seeking comment prior to issuance. Further, section 553(d) of the APA authorizes agencies to make rules effective in less than thirty days, upon a finding of good cause.

An unsafe condition exists that requires the immediate adoption of this AD without providing an opportunity for public comments prior to adoption. The FAA has found that the risk to the flying public justifies foregoing notice and comment prior to adoption of this rule because the next predicted event of intermittent or abnormal operation of a governor is within three months. In light of this, the required actions must be accomplished within 15 hours time-in-service or 15 days, whichever occurs first. This compliance time is shorter than the time necessary for the public to comment and for publication of the final rule. Accordingly, notice and opportunity for prior public comment are impracticable and contrary to the public interest pursuant to 5 U.S.C. 553(b)(3)(B).

In addition, the FAA finds that good cause exists pursuant to 5 U.S.C. 553(d) for making this amendment effective in less than 30 days, for the same reasons the FAA found good cause to forego notice and comment.

Comments Invited

The FAA invites you to send any written data, views, or arguments about this final rule. Send your comments to an address listed under ADDRESSES. Include “Docket No. FAA-2022-0676 and Project Identifier AD-2022-00533-R” at the beginning of your comments. The most helpful comments reference a specific portion of the final rule, explain the reason for any recommended change, and include supporting data. The FAA will consider all comments received by the closing date and may amend this final rule because of those comments.

Except for Confidential Business Information (CBI) as described in the following paragraph, and other information as described in 14 CFR 11.35, the FAA will post all comments received, without change, to https://www.regulations.gov, including any personal information you provide. The agency will also post a report summarizing each substantive verbal contact received about this final rule.

Confidential Business Information

CBI is commercial or financial information that is both customarily and actually treated as private by its owner. Under the Freedom of Information Act (FOIA) (5 U.S.C. 552), CBI is exempt from public disclosure. If your comments responsive to this AD contain commercial or financial information that is customarily treated as private, that you actually treat as private, and that is relevant or responsive to this AD, it is important that you clearly designate the submitted comments as CBI. Please mark each page of your submission containing CBI as “PROPIN.” The FAA will treat such marked submissions as confidential under the FOIA, and they will not be placed in the public docket of this AD. Submissions containing CBI should be sent to Jeffrey Chang, Aerospace Engineer, Propulsion Section, Los Angeles ACO Branch, Compliance & Airworthiness Division, FAA, 3960 Paramount Blvd., Lakewood, CA 90712; telephone (562) 627-5263; email jeffrey.chang@faa.gov. Any commentary that the FAA receives which is not specifically designated as CBI will be placed in the public docket for this rulemaking.

Regulatory Flexibility Act

The requirements of the Regulatory Flexibility Act (RFA) do not apply when an agency finds good cause pursuant to 5 U.S.C. 553 to adopt a rule without prior notice and comment. Because FAA has determined that it has good cause to adopt this rule without prior notice and comment, RFA analysis is not required.

Costs of Compliance

The FAA estimates that this AD affects 43 helicopters (4 Model R22 BETA helicopters and 39 Model R44 and R44 II helicopters) of U.S. Registry. Labor rates are estimated at $85 per work-hour. Based on these numbers, the FAA estimates the following costs to comply with this AD.

Inspecting the wiring and installing wiring kit KI-288 for Model R22 BETA helicopters takes about 3.5 work-hours and parts cost about $75 for an estimated cost of $373 per helicopter and $1,492 for the U.S. fleet (4 Model R22 BETA helicopters).

Inspecting the wiring and installing wiring kit KI-287 for Model R44 and R44 II helicopters takes about 4.5 work-hours and parts cost about $125 for an estimated cost of $508 per helicopter and $19,812 for the U.S. fleet (39 Model R44 and R44 II helicopters).

Authority for This Rulemaking

Title 49 of the United States Code specifies the FAA's authority to issue rules on aviation safety. Subtitle I, section 106, describes the authority of the FAA Administrator. Subtitle VII: Aviation Programs describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866, and

(2) Will not affect intrastate aviation in Alaska.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2022-12-08 Robinson Helicopter Company: Amendment 39-22080; Docket No. FAA-2022-0676; Project Identifier AD-2022-00533-R.

(a) Effective Date

This airworthiness directive (AD) is effective June 29, 2022.

(b) Affected ADs

None.

(c) Applicability

This AD applies to the Robinson Helicopter Company helicopters identified in paragraphs (c)(1) through (3) of this AD, certificated in any category.

(1) Model R22 BETA helicopters, serial numbers (S/Ns) 4825 through 4857 inclusive, 4860, and 4861.

(2) Model R44 helicopters, S/Ns 2625 through 2669 inclusive, 30061, 30071 through 30080 inclusive, 30083, and 30084.

Note 1 to paragraph (c)(2): Helicopters with an R44 Cadet designation are Model R44 helicopters.

(3) Model R44 II helicopters, S/Ns 14364, 14412 through 14512 inclusive, 14514 through 14517 inclusive, 14519 through 14521 inclusive, and 14525.

(d) Subject

Joint Aircraft System Component (JASC) Code: 2797, Flight Control System Wiring; 7697, Engine Control System Wiring; and 7714, Engine RPM Indicating System.

(e) Unsafe Condition

This AD was prompted by reports of intermittent or abnormal operation of the engine revolutions per minute (RPM) governor (governor). The FAA is issuing this AD to prevent failure of the governor. The unsafe condition, if not addressed, could result in engine overspeed or underspeed conditions during flight, loss of engine thrust control, increased pilot workload, reduced control of the helicopter, and subsequent emergency landing or loss of control of the helicopter.

(f) Compliance

Comply with this AD within the compliance times specified, unless already done.

(g) Required Actions

Within 15 hours time-in-service or 15 days after the effective date of this AD, whichever occurs first:

(1) For Model R22 BETA helicopters, inspect the engine RPM sensor wiring and modify the wiring connection to the airframe harness by following paragraphs 1 through 31 of the Kit Instructions in Robinson R22-series Governor & Engine RPM Sensor Connector Upgrade Kit Instructions, KI-288 Revision A, dated February 23, 2022, except you are not required to discard parts.

(2) For Model R44 and R44 II helicopters, inspect the engine RPM sensor wiring and modify the wiring connection to the airframe harness by following paragraphs 1 through 41 of the Kit Instructions in Robinson R44-series Governor & Engine RPM Sensor Connector Upgrade Kit Instructions, KI-287 Revision A, dated February 23, 2022, except you are not required to discard parts.

(h) Special Flight Permits

Special flight permits are prohibited.

(i) Alternative Methods of Compliance (AMOCs)

(1) The Manager, Los Angeles ACO Branch, FAA, has the authority to approve AMOCs for this AD, if requested using the procedures found in 14 CFR 39.19. In accordance with 14 CFR 39.19, send your request to your principal inspector or local Flight Standards District Office, as appropriate. If sending information directly to the manager of the certification office, send it to the attention of the person identified in paragraph (j) of this AD. Information may be emailed to: 9-ANM-LAACO-AMOC-REQUESTS@faa.gov.

(2) Before using any approved AMOC, notify your appropriate principal inspector, or lacking a principal inspector, the manager of the local flight standards district office/certificate holding district office.

(j) Related Information

For more information about this AD, contact Jeffrey Chang, Aerospace Engineer, Propulsion Section, Los Angeles ACO Branch, Compliance & Airworthiness Division, FAA, 3960 Paramount Blvd., Lakewood, CA 90712; telephone (562) 627-5263; email jeffrey.chang@faa.gov.

(k) Material Incorporated by Reference

(1) The Director of the Federal Register approved the incorporation by reference of the service information listed in this paragraph under 5 U.S.C. 552(a) and 1 CFR part 51.

(2) You must use this service information as applicable to do the actions required by this AD, unless the AD specifies otherwise.

(i) Robinson R22-series Governor & Engine RPM Sensor Connector Upgrade Kit Instructions, KI-288 Revision A, dated February 23, 2022.

(ii) Robinson R44-series Governor & Engine RPM Sensor Connector Upgrade Kit Instructions, KI-287 Revision A, dated February 23, 2022.

(3) For Robinson service information identified in this AD, contact Robinson Helicopter Company, Technical Support Department, 2901 Airport Drive, Torrance, CA 90505; telephone (310) 539-0508; fax (310) 539-5198; email ts1@robinsonheli.com; or at https://robinsonheli.com.

(4) You may view this service information at FAA, Office of the Regional Counsel, Southwest Region, 10101 Hillwood Pkwy., Room 6N-321, Fort Worth, TX 76177. For information on the availability of this material at the FAA, call (817) 222-5110.

(5) You may view this service information that is incorporated by reference at the National Archives and Records Administration (NARA). For information on the availability of this material at NARA, email: fr.inspection@nara.gov, or go to: https://www.archives.gov/federal-register/cfr/ibr-locations.html.

Issued on June 2, 2022.
Gaetano A. Sciortino,
Deputy Director for Strategic Initiatives, Compliance & Airworthiness Division, Aircraft Certification Service.

[FR Doc. 2022-12883 Filed 6-10-22; 4:15 pm]

BILLING CODE 4910-13-P